DEPARTMENT OF HEALTH AND HUMAN SERVICES

Administration for Children and Families

Submission for OMB Review; Comment Request

Title: Job Search Assistance (JSA) Strategies Evaluation.

OMB No.: 0970-0440.

Description: The Administration for Children and Families (ACF) is proposing a data collection activity as part of the Job Search Assistance (JSA) Strategies Evaluation. The JSA evaluation aims to determine which JSA strategies are most effective in moving TANF applicants and recipients into work. The impact study will randomly assign individuals to contrasting JSA approaches and then compare their employment and earnings to determine their relative effectiveness. The implementation study will describe services participants receive under each approach as well as provide operational lessons gathered directly from practitioners.

Two data collection efforts have been previously approved for JSA, including one for data collection activities to document program implementation, to administer a staff survey and to collect baseline information of program participants. These collection activities will continue under this new request.

This Federal Register Notice provides the opportunity to comment on a proposed new information collection activity for JSA: A follow-up survey for JSA participants approximately 6 months after program enrollment.

The purpose of the survey is to follow-up with study participants and document their job search assistance services and experiences including their receipt of job search assistance services, their knowledge and skills for conducting a job search, the nature of their job search process, including tools and services used to locate employment, and their search outputs and outcomes, such as the number of applications submitted, interviews attended, offers received and jobs obtained. In addition, the survey will provide an opportunity for respondents to provide contact data for possible longer-term follow-up.

Respondents: JSA study participants and program staff.

Existing Annual Burden Estimates
Instrument | Total number of respondents | Annual number of respondents | Number of responses per respondent | Average burden hours per response | Annual burden hours
Baseline Information Form | 8,000 | 4,000 | 1 | 0.2 | 800
Implementation Study Site Visits | 150 | 75 | 1 | 1 | 75
JSA Staff Survey | 440 | 220 | 1 | 0.33 | 73

Total Previously Approved Annual Burden: 948.

Proposed New Annual Burden Estimates
Instrument | Total number of respondents | Annual number of respondents | Number of responses per respondent | Average burden hours per response | Annual burden hours
6 Month Follow-Up Survey | 6,400 | 3,200 | 1 | 0.333 | 1,066
Participant Contact Update Form | 1,200 | 600 | 1 | 0.083 | 50
Tracking Surveys | 2,800 | 1,400 | 5 | 0.167 | 1,169

Estimated Total NEW Annual Burden Hours: 2285.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Email: OIRA_SUBMISSION@OMB.EOP.GOV, Attn: Desk Officer for the Administration for Children and Families.

Robert Sargis,
ACF Reports Clearance Officer.

[FR Doc. 2015-29749 Filed 11-20-15; 8:45 am]

BILLING CODE 4184-07-P